DEPARTMENT OF STATE

[Public Notice 11024]

60-Day Notice of Proposed Information Collection: Affidavit of Relationship

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to April 20, 2020.

ADDRESSES: You may submit comments by any of the following methods:

• Web: Persons with access to the internet may comment on this notice by going to www.Regulations.gov. You can search for the document by entering “Docket Number: DOS-2020-0002” in the Search field. Then click the “Comment Now” button and complete the comment form.

• Email: SiramS@state.gov.

• Regular Mail: Send written comments to Sumitra Siram, PRM/A, 2025 E Street NW, Washington, DC 20520.

You must include the DS form number (if applicable), information collection title, and the OMB control number in any correspondence.

FOR FURTHER INFORMATION CONTACT: Direct requests for additional information regarding the collection listed in this notice, including requests for copies of the proposed collection instrument and supporting documents, to Sumitra Siram, Program Officer, who may be reached on 202-453-9250 or at sirams@state.gov.

SUPPLEMENTARY INFORMATION:

• Title of Information Collection: Affidavit of Relationship.

• OMB Control Number: 1405-0206.

• Type of Request: Extension of a Currently Approved Collection.

• Originating Office: Office of Admissions, Bureau of Population, Refugees and Migration (PRM/A).

• Form Number: DS-7656.

• Respondents: Persons admitted to the United States as refugees or granted asylum in the United States who are claiming a relationship with family members overseas (spouse, unmarried children under age 21, and/or parents) in order to assist the U.S. Government in determining whether those family members are qualified to access the U.S. Refugee Admissions Program through the family reunification access priority.

• Estimated Number of Respondents: 300.

• Estimated Number of Responses: 300.

• Average Time per Response: One hour.

• Total Estimated Burden Time: 300 hours.

• Frequency: On occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Affidavit of Relationship (AOR) is required by the Department of State to establish qualification for access to the Priority-3 (P-3) Family Reunification category of the United States Refugee Admissions Program (USRAP). The P-3 category, along with the other categories of cases that have access to USRAP, is outlined in the annual Report to Congress on Proposed Refugee Admissions, which is submitted on behalf of the President in fulfillment of the requirements of Section 207(d) of the Immigration and Nationality Act (8 U.S.C. 1157), and authorized by the annual Presidential Determination on Refugee Admissions. The P-3 category is available to certain family members of qualifying “anchors” (persons already admitted to the U.S. as refugees or who were granted asylum in the United States, including persons who may now be lawful permanent residents or U.S. citizens). Qualifying family members of U.S.-based anchors include spouses, unmarried children under age 21, and parents. Eligible P-3 nationalities are determined on an annual basis by the President.

In order to access the USRAP through P-3, an applicant must have an Affidavit of Relationship (AOR) filed on his or her behalf by an eligible anchor. The AOR also informs the anchor that DNA evidence of all claimed parent-child relationships between the anchor relative and parents and/or unmarried children under 21 is required as a condition of access to P-3 processing; it further informs the anchor that the costs of DNA testing will be borne by the anchor or his or her family members who may apply for access to refugee processing, or their derivative beneficiaries, as the case may be. Successful applicants may be eligible for reimbursement of DNA test costs.

Methodology

This information collection currently involves the limited use of electronic techniques. An anchor may complete an AOR at any local office of a Resettlement Agency (RA) that has a cooperative agreement with the Department of State to assist refugees who have been resettled in the United States. In order to file an AOR, an anchor must be at least 18 years of age and have been admitted to the United States as a refugee or granted asylum in the United States no more than five years prior to the filing of the AOR. The AOR is available electronically, is completed electronically with the assistance of RA staff, and is submitted electronically by RA staff to a Department of State-contracted facility, where it is uploaded into the USRAP case management system. In addition, the RA local office prints a copy for the respondent's ink signature, then submits the signed form to the RA headquarters.

Andrew Veprek,
Deputy Assistant Secretary.

[FR Doc. 2020-03249 Filed 2-18-20; 8:45 am]

BILLING CODE 4710-33-P